DEPARTMENT OF COMMERCE

National Oceanic and Atmospheric Administration

15 CFR Part 922

RIN 0648-BG02

Designation of Mallows Bay-Potomac River National Marine Sanctuary; Notification of Effective Date

AGENCY: Office of National Marine Sanctuaries (ONMS), National Ocean Service (NOS), National Oceanic and Atmospheric Administration (NOAA), Department of Commerce (DOC).

ACTION: Notification of effective date.

SUMMARY: The National Oceanic and Atmospheric Administration (NOAA) provides notice that the designation and the final regulations to implement the designation of Mallows Bay-Potomac River National Marine Sanctuary (MPNMS) published on July 8, 2019 became effective on September 3, 2019.

DATES: The notification of designation and final regulations published on July 8, 2019 (84 FR 32586) became effective on September 3, 2019.

FOR FURTHER INFORMATION CONTACT: Paul Orlando, Regional Coordinator, Office of National Marine Sanctuaries at 240-460-1978, paul.orlando@noaa.gov, or Mallows Bay-Potomac River National Marine Sanctuary, c/o NOAA Office of National Marine Sanctuaries, 1305 East West Hwy., 11th Floor, Silver Spring, MD 20910, Attention: Paul Orlando, Regional Coordinator.

SUPPLEMENTARY INFORMATION: The MPNMS is 18 square miles of waters and submerged lands encompassing and surrounding the Mallows Bay area of the tidal Potomac River. The area is located entirely within Maryland state waters, adjacent to the Nanjemoy Peninsula of Charles County, Maryland. The sanctuary protects nationally-significant maritime cultural heritage resources, including the fragile, historic remains of more than 100 World War I (WWI)-era U.S. Emergency Fleet Corporation (USEFC) wooden steamships known as the “Ghost Fleet,” vessels related to the historic ship-breaking operations, other non-USEFC vessels of historic significance, and related maritime debris fields. The area also includes Native American sites, remains of historic fisheries operations, and Revolutionary and Civil War battlescapes. The significance of the area is recognized through its listing on the National Register of Historic Places (National Register Listing Number 15000173, April 24, 2015). NOAA, the State of Maryland, and Charles County, Maryland, will jointly manage MPNMS.

Pursuant to Section 304(b) of the National Marine Sanctuaries Act (NMSA)(16 U.S.C. 1434(b)), NOAA published the designation and final regulations to implement the designation of MPNMS on July 8, 2019 (84 FR 32586). As required by the NMSA, the designation and regulations became effective following the close of a review period of 45 days of continuous session of Congress beginning on the date of publication, unless the Governor of the State of Maryland certifies to the Secretary of Commerce that the designation or any of its terms is unacceptable. The Governor did not certify that the designation or any of its terms is unacceptable within the review period prescribed under the NMSA. Accordingly, NOAA announces the designation and the final regulations to implement the designation of MPNMS became effective on September 3, 2019.

(Federal Domestic Assistance Catalog Number 11.429 Marine Sanctuary Program)

Paul M. Scholz,
Chief Financial Officer/Chief Administrative Officer, National Ocean Service.

[FR Doc. 2019-20608 Filed 9-25-19; 8:45 am]

BILLING CODE 3510-NK-P